DEPARTMENT OF COMMERCE

National Telecommunications and Information Administration

Submission for OMB Review; Comment Request

The Department of Commerce has submitted to the Office of Management and Budget (OMB) for clearance the following proposal for collection of information under the provisions of the Paperwork Reduction Act of 1995 (44 U.S.C. Chapter 35).

Agency: National Telecommunications and Information Administration (NTIA).

Title: Technology Opportunities Program (TOP) Reviewer Information Form.

Form Number(s): None.

OMB Approval Number: 0660-0010.

Type of Request: Regular submission.

Burden Hours: 42.

Number of Respondents: 252.

Average Hours Per Response: 10 minutes.

Needs and Uses: Technology Opportunities Program (TOP) promotes the widespread availability and use of digital network technologies in the public and non-profit sectors. To accomplish this objective, TOP provides matching grants to state, local, and tribal governments and non-profit entities for model projects that demonstrate innovative uses of digital network technologies in under-served communities. TOP projects address specific challenges and realize opportunities for change in such areas as lifelong learning, community and economic development, government and public services, safety, health, culture, and the arts.

As part of TOP's process to select projects for funding, external experts are used to review applications. The collection of information about potential reviewers is used to determine their eligibility and availability and to facilitate payment for services rendered if they are selected to review.

Affected Public: Individuals from state and local government, non-profit institutions, and business and other for-profit organizations.

Frequency: Annually.

Respondent's Obligation: Voluntary.

OMB Desk Officer: David Rostker, (202) 395-3897.

Copies of the above information collection proposal can be obtained by calling or writing Madeleine Clayton, Departmental Paperwork Clearance Officer, (202) 482-3129, Department of Commerce, Room 6086, 14th and Constitution Avenue, NW., Washington, DC 20230 (or via the Internet at Mclayton@doc.gov).

Written comments and recommendations for the proposed information collection should be sent within 30 days of publication of this notice to David Rostker, OMB Desk Officer, Room 10202, New Executive Office Building, Washington, DC 20503.

Dated: February 20, 2002.
Gwellnar Banks,
Management Analyst, Office of the Chief Information Officer.

[FR Doc. 02-4488 Filed 2-25-02; 8:45 am]

BILLING CODE 3510-60-P